DEPARTMENT OF COMMERCE

National Oceanic and Atmospheric Administration

50 CFR Part 300

[Docket No. 141219999-5289-02]

RIN 0648-BE66

Pacific Halibut Fisheries; Catch Sharing Plan

AGENCY: National Marine Fisheries Service (NMFS), National Oceanic and Atmospheric Administration (NOAA), Commerce.

ACTION: Final rule.

SUMMARY: This final rule announces the approval of the Area 2A (waters off the U.S. West Coast) Catch Sharing Plan (Plan), with modifications recommended by the Pacific Fishery Management Council (Council), and issues implementing regulations for 2015. These actions are intended to conserve Pacific halibut, provide angler opportunity where available, and minimize bycatch of overfished groundfish species. The sport fishing management measures in this rule are an additional subsection of the regulations for the International Pacific Halibut Commission (IPHC) published on March 17, 2015.

DATES: This rule is effective April 1, 2015. The 2015 management measures are effective until superseded.

ADDRESSES: Additional requests for information regarding this action may be obtained by contacting the Sustainable Fisheries Division, NMFS West Coast Region, 7600 Sand Point Way NE., Seattle, WA 98115. For information regarding all halibut fisheries and general regulations not contained in this rule contact the International Pacific Halibut Commission, 2320 W. Commodore Way Suite 300, Seattle, WA 98199-1287; or this final rule also is accessible via the Internet at the Federal eRulemaking portal at http://www.regulations.gov identified by NOAA-NMFS-2015-0159. Electronic copies of the Final Regulatory Flexibility Analysis (FRFA) prepared for this action may be obtained by contacting Sarah Williams, phone: 206-526-4646, email: sarah.williams@noaa.gov.

FOR FURTHER INFORMATION CONTACT: Sarah Williams, 206-526-4646, email at sarah.williams@noaa.gov.

SUPPLEMENTARY INFORMATION:

Electronic Access

This rule is accessible via the Internet at the Office of the Federal Register Web site at http://www.access.gpo.gov/su_docs/aces/aces140.html. Background information and documents are available at the NMFS West Coast Region Web site at http://www.westcoast.fisheries.noaa.gov/fisheries/management/pacific_halibut_management.html and at the Council's Web site at http://www.pcouncil.org.

Background

The IPHC has promulgated regulations governing the Pacific halibut fishery in 2015, pursuant to the Convention between Canada and the United States for the Preservation of the Halibut Fishery of the North Pacific Ocean and Bering Sea (Convention), signed at Ottawa, Ontario, on March 2, 1953, as amended by a Protocol Amending the Convention (signed at Washington, DC, on March 29, 1979). Pursuant to the Northern Pacific Halibut Act of 1982 (Halibut Act) at 16 U.S.C. 773b, the Secretary of State accepted the 2015 IPHC regulations as provided by the Northern Pacific Halibut Act of 1982 (Halibut Act) at 16 U.S.C. 773-773k. NMFS published these regulations on March 17, 2015 (80 FR 13771).

The Halibut Act provides that the Regional Fishery Management Councils may develop, and the Secretary may implement, regulations governing harvesting privileges among U.S. fishermen in U.S. waters that are in addition to, and not in conflict with, approved IPHC regulations. To that end, the Council adopted a Catch Sharing Plan (Plan) allocating halibut among groups of fishermen in Area 2A, which is off the coasts of Washington, Oregon, and California. The Plan allocates the Area 2A catch limit among treaty Indian and non-Indian commercial and sport harvesters. The treaty Indian group includes tribal commercial, tribal ceremonial, and subsistence fisheries. Each year between 1988 and 1995, the Council developed and NMFS implemented a catch sharing plan in accordance with the Halibut Act to allocate the total allowable catch (TAC) of Pacific halibut between treaty Indian and non-Indian harvesters and among non-Indian commercial and sport fisheries in Area 2A. In 1995, NMFS implemented the Pacific Council-recommended long-term Plan (60 FR 14651, March 20, 1995). Every year since then, minor revisions to the Plan have been made to adjust for the changing needs of the fisheries.

NMFS implements the allocation scheme in the Plan through annual regulations for Area 2A. The proposed rule describing the changes the Council recommended to the Plan and resulting proposed Area 2A regulations for 2015 was published on February 3, 2015 (80 FR 5719). The proposed rule was developed prior to the IPHC's decision on a TAC for Area 2A, therefore it did not include final allocations for the relevant areas and subareas. The IPHC held its annual meeting January 26-30, 2015, and selected at TAC of 970,000 pounds for Area 2A. This final rule accounts for that information.

For 2015, this final rule contains only those regulations implementing the Plan in Area 2A. NMFS published the complete IPHC regulations, which apply to commercial, treaty Indian, and recreational fisheries, separately on March 17, 2015 (80 FR 13771). Therefore anyone wishing to fish for halibut in Area 2A should read both this final rule and the March 17, 2015 final rule that implements the IPHC regulations.

Changes to the Pacific Fishery Management Council's Area 2A Catch Sharing Plan

This final rule announces the approval of several Council-recommended changes to the Pacific Fishery Management Council's Area 2A Plan and implements the Plan through annual management measures. For 2015, the Council recommended and NMFS implements in this final rule, several changes to the non-Indian allocations in order to provide the California recreational fishery with an allocation that is closer to recent effort while not substantially reducing the remaining non-Indian allocations. The Council recommendation increases the California sport fishery allocation from 1 to 4 percent of the non-tribal allocation by reducing the Washington and Oregon sport and the commercial allocations each by 1 percent.

Additionally for 2015, the Council recommended several minor changes to the Plan that would: (1) Remove a reference to the “fall salmon troll fisheries” as a trigger for the rollover of quota from the directed halibut fishery to the incidental salmon troll fishery because there is no defined “fall” salmon fishery; (2) make several changes to the Columbia River subarea including modifying the Oregon contribution to a fixed percentage of the Oregon sport allocation, setting the nearshore fishery allocation to 500 pounds, removing the spring and summer fisheries thus allowing the quota to be used continuously, and adding all flatfish species to the list of incidentally caught fish allowed to be landed with halibut; (3) make several changes to the Oregon central coast subarea including clarifying that the allocation to the Columbia river subarea comes from the total Oregon sport allocation and not from this area's spring fishery, adding incidental flatfish retention consistent with the change in the Columbia River subarea, modifying the spring all depth season allocation from 61 to 63 percent, and removing the provision that allocated a portion of the spring fishery to the Southern Oregon subarea; (4) modify the allocation to the Southern Oregon subarea from 2 to 4 percent of the Oregon sport allocation after the Columbia River allocation has been subtracted; (5) make several changes to the California subarea including modifying the season structure to a 7 days per week fishery when open, with a season length that is based on attainment of the quota instead of a set season, allowing inseason action through joint NMFS, IPHC, and CDFW consultation; and (6) modify the name of the NMFS Northwest Regional Office to “NMFS West Coast Regional Office”, to reflect the recent merger of NMFS offices.

Incidental Halibut Retention in the Sablefish Primary Fishery North of Pt. Chehalis, Washington and the Salmon Troll Fishery Along the West Coast

This final rule also implements the allocation for incidental halibut retention in the sablefish primary fishery north of Pt. Chehalis, Washington. The Plan provides that incidental halibut retention in the sablefish primary fishery north of Pt. Chehalis, Washington, will be allowed when the Area 2A TAC is greater than 900,000 lb (408.2 mt), provided that a minimum of 10,000 lb (4.5 mt) is available above the state of Washington recreational allocation of 214,100 lb (97.1 mt). In 2015, the TAC is set at 970,000 lb (439.99 mt); therefore, the allocation for incidental halibut retention in the sablefish fishery is 10,348 lb (4.69 mt). The Council considered whether any changes to the landing restrictions adopted for this fishery in 2014 were necessary for 2015, but because this allocation is similar to recent allocations, the Council made no changes. Therefore, the 2015 incidental halibut landing restrictions are: 75 pounds dressed weight of halibut for every 1,000 lbs dressed weight of sablefish, except that 2 additional halibut may be landed. These restrictions can be found in the groundfish regulations at 50 CFR 660.231(3)(iv).

The Plan allocates 15 percent of the non-Indian commercial TAC to the salmon troll fishery in Area 2A. For 2015, the allocation for the salmon troll fishery in Area 2A is 29,035 lb (13.17 mt). The Council approved a range of landing restrictions for public review at its recent March meeting. The final landing restrictions will be addressed at its April 2015 meetings.

Comments and Responses

NMFS accepted comments on the proposed rule for the Area 2A Plan and annual management measures through March 5, 2015. NMFS received 4 public comment letters: one comment letter each from the Washington Department of Fish and Wildlife (WDFW), Oregon Department of Fish and Wildlife (ODFW), and California Department of Fish and Wildlife (CDFW) recommending season dates for halibut sport fisheries in each state, and one comment from an individual.

Comment 1: The WDFW held a public meeting following the IPHC's final 2015 TAC decisions to review the results of the 2013 Puget Sound halibut fishery, as the 2014 catch data was not yet finalized, and the preliminary 2014 estimates, and to develop season dates for the 2015 sport halibut fishery. Based on input from stakeholders, WDFW recommended a 2015 season that is similar to the 2014 season because the allocation to this area is the same as in 2014. For the Puget Sound halibut sport fishery, WDFW recommended the following dates: the Eastern Region to be open May 8, 9, 15, 16, 21, 22, 23, 24, 28, 29, and 30; and the Western Region to be open May 15, 16, 21, 22, 23, 24, 29, and 30.

Response: NMFS believes WDFW's recommended Puget Sound season dates will help keep this area within its quota, while providing for angler enjoyment and participation. Therefore, NMFS implements the dates for this subarea as stated above, in this final rule.

Comment 2: The ODFW held a public meeting and hosted an online survey following the final TAC decision by the IPHC. Based on public comments received on Oregon halibut fisheries, the ODFW recommended the following days for the spring fishery in the Central Coast subarea, within this subarea's parameters for a Thursday-Saturday season and weeks of adverse tidal conditions skipped: Regular open days May 14-16, 28-30, June 11-13, and 25-27. Back-up dates in case there is sufficient remaining quota will be July 9-11 and 23-25. For the summer all-depth fishery in this subarea, ODFW recommended following the Plan's parameters of opening the first Friday in August, with open days to occur every other Friday-Saturday, unless modified in-season within the parameters of the Plan. Therefore, pursuant to the Plan, the ODFW recommended the 2015 summer all-depth fishery in Oregon's Central Coast Subarea to occur: August 7, 8, 21, 22, September 4, 5, 18, 19, October 2, 3, 16, 17, 30, and 31.

Response: NMFS believes ODFW's recommended Central Coast season dates will help keep this area within its quota, while providing for angler enjoyment and participation. Therefore, NMFS implements the dates in this final rule.

Comment 3: The CDFW held a public meeting to solicit comments on the sport fishing seasons. Based on public comments and projected attainment of subarea allocation, the CDFW recommended the following open days May 1-14, June 1-15, July 1-15, August 1-15, and September 1-October 31.

Response: NMFS agrees with CDFW's recommended season dates. These dates will help keep this area within its quota, while providing for angler enjoyment and participation. Therefore, NMFS implements the dates in this final rule.

Comment 5: NMFS received one comment from a member of the public that appears to oppose the proposed rule, but does not identify any specific reasons for that opposition.

Response: NMFS believes the revised Plan and proposed annual regulations will result in effective management of fisheries in Area 2A, keeping catch in the Area within the TAC while allowing for meaningful commercial and recreational fisheries, and full opportunity for the treaty tribes with rights to fish for halibut to exercise those rights. Therefore, NMFS has approved this action.

Changes From the Proposed Rule

On February 3, 2015, NMFS published a proposed rule to modify the Plan and recreational management measures for Area 2A (80 FR 5719). Because the proposed rule was finalized before the IPHC determined the TAC for Area 2A, the final subarea allocations based on the TAC and Plan are included for the first time in the final rule. The allocations in this rule are consistent with the final Area 2A TAC of 970,000 lbs and the 2015 Plan as recommended by the Council. Also, season dates as recommended by the states following determination of the TAC are included in the final rule. There are no other substantive changes from the proposed rule.

Annual Halibut Management Measures

The sport fishing regulations for Area 2A, included in section 26 below, are consistent with the measures adopted by the IPHC and approved by the Secretary of State, but were developed by the Pacific Fishery Management Council and promulgated by the United States under the Halibut Act. Section 26 refers to a section that is in addition to and corresponds to the numbering in the IPHC regulations published on March 17, 2015 (80 FR 13771).

26. Sport Fishing for Halibut—Area 2A

(1) The total allowable catch of halibut shall be limited to:

(a) 214,110 pounds (97.1 metric tons) net weight in waters off Washington;

(b) 187,259 pounds (84.9 metric tons) net weight in waters off Oregon; and

(c) 25,220 pounds (11.4 metric tons) net weight in waters off California.

(2) The Commission shall determine and announce closing dates to the public for any area in which the catch limits promulgated by NMFS are estimated to have been taken.

(3) When the Commission has determined that a subquota under paragraph (8) of this section is estimated to have been taken, and has announced a date on which the season will close, no person shall sport fish for halibut in that area after that date for the rest of the year, unless a reopening of that area for sport halibut fishing is scheduled in accordance with the Catch Sharing Plan for Area 2A, or announced by the Commission.

(4) In California, Oregon, or Washington, no person shall fillet, mutilate, or otherwise disfigure a halibut in any manner that prevents the determination of minimum size or the number of fish caught, possessed, or landed.

(5) The possession limit on a vessel for halibut in the waters off the coast of Washington is the same as the daily bag limit. The possession limit on land in Washington for halibut caught in U.S. waters off the coast of Washington is two halibut.

(6) The possession limit on a vessel for halibut caught in the waters off the coast of Oregon is the same as the daily bag limit. The possession limit for halibut on land in Oregon is three daily bag limits.

(7) The possession limit on a vessel for halibut caught in the waters off the coast of California is one halibut. The possession limit for halibut on land in California is one halibut.

(8) The sport fishing subareas, subquotas, fishing dates, and daily bag limits are as follows, except as modified under the in-season actions in 50 CFR 300.63(c). All sport fishing in Area 2A is managed on a “port of landing” basis, whereby any halibut landed into a port counts toward the quota for the area in which that port is located, and the regulations governing the area of landing apply, regardless of the specific area of catch.

(a) The area in Puget Sound and the U.S. waters in the Strait of Juan de Fuca, east of a line extending from 48°17.30′ N. lat., 124°23.70′ W. long. north to 48°24.10′ N. lat., 124°23.70′ W. long., is not managed in-season relative to its quota. This area is managed by setting a season that is projected to result in a catch of 57,393 lbs (26 mt).

(i) The fishing season in eastern Puget Sound (east of 123°49.50′ W. long., Low Point) is May 8, 9, 15, 16, 21, 22, 23, 24, 28, 29, and 30. The fishing season in western Puget Sound (west of 123°49.50′ W. long., Low Point) is open May 15, 16, 21, 22, 23, 24, 29, and 30.

(ii) The daily bag limit is one halibut of any size per day per person.

(b) The quota for landings into ports in the area off the north Washington coast, west of the line described in paragraph (2)(a) of section 26 and north of the Queets River (47°31.70′ N. lat.) (North Coast subarea), is 108,030 lbs (49 mt).

(i) The fishing seasons are:

(A) Commencing on May 14 and continuing 2 days a week (Thursday and Saturday) until 108,030 lbs (49 mt) are estimated to have been taken and the season is closed by the Commission, or until May 23.

(B) If sufficient quota remains the fishery will reopen on June 4 and/or June 6, continuing 2 days per week (Thursday and Saturday) until there is not sufficient quota for another full day of fishing and the area is closed by the Commission. After May 23, any fishery opening will be announced on the NMFS hotline at 800-662-9825. No halibut fishing will be allowed after May 23 unless the date is announced on the NMFS hotline.

(ii) The daily bag limit is one halibut of any size per day per person.

(iii) Recreational fishing for groundfish and halibut is prohibited within the North Coast Recreational Yelloweye Rockfish Conservation Area (YRCA). It is unlawful for recreational fishing vessels to take and retain, possess, or land halibut taken with recreational gear within the North Coast Recreational YRCA. A vessel fishing in the North Coast Recreational YRCA may not be in possession of any halibut. Recreational vessels may transit through the North Coast Recreational YRCA with or without halibut on board. The North Coast Recreational YRCA is a C-shaped area off the northern Washington coast intended to protect yelloweye rockfish. The North Coast Recreational YRCA is defined in groundfish regulations at § 660.70(a).

(c) The quota for landings into ports in the area between the Queets River, WA (47°31.70′ N. lat.), and Leadbetter Point, WA (46°38.17′ N. lat.) (South Coast subarea), is 42,739 lbs (19.4 mt).

(i) This subarea is divided between the all-waters fishery (the Washington South coast primary fishery), and the incidental nearshore fishery in the area from 47°31.70′ N. lat. south to 46°58.00′ N. lat. and east of a boundary line approximating the 30 fm depth contour. This area is defined by straight lines connecting all of the following points in the order stated as described by the following coordinates (the Washington South coast, northern nearshore area):

(1) 47°31.70′ N. lat, 124°37.03′ W. long;

(2) 47°25.67′ N. lat, 124°34.79′ W. long;

(3) 47°12.82′ N. lat, 124°29.12′ W. long;

(4) 46°58.00´ N. lat, 124°24.24′ W. long.

The south coast subarea quota will be allocated as follows: 40,739 lbs (18.5 mt) for the primary fishery and 2,000 lbs (0.9 mt) for the nearshore fishery. The primary fishery commences on May 3, and continues 2 days a week (Sunday and Tuesday) until May 19. If the primary quota is projected to be obtained sooner than expected, the management closure may occur earlier. Beginning on May 31 the primary fishery will be open at most 2 days per week (Sunday and/or Tuesday) until the quota for the south coast subarea primary fishery is taken and the season is closed by the Commission, or until September 30, whichever is earlier. The fishing season in the nearshore area commences on May 3, and continues 7 days per week. Subsequent to closure of the primary fishery, the nearshore fishery is open 7 days per week, until is 42,739 lbs (19.4 mt) is projected to be taken by the two fisheries combined and the fishery is closed by the Commission or September 30, whichever is earlier. If the fishery is closed prior to September 30, and there is insufficient quota remaining to reopen the northern nearshore area for another fishing day, then any remaining quota may be transferred in-season to another Washington coastal subarea by NMFS via an update to the recreational halibut hotline.

(ii) The daily bag limit is one halibut of any size per day per person.

(iii) Seaward of the boundary line approximating the 30-fm depth contour and during days open to the primary fishery, lingcod may be taken, retained and possessed when allowed by groundfish regulations at 50 CFR 660.360, subpart G.

(iv) Recreational fishing for groundfish and halibut is prohibited within the South Coast Recreational YRCA and Westport Offshore YRCA. It is unlawful for recreational fishing vessels to take and retain, possess, or land halibut taken with recreational gear within the South Coast Recreational YRCA and Westport Offshore YRCA. A vessel fishing in the South Coast Recreational YRCA and/or Westport Offshore YRCA may not be in possession of any halibut. Recreational vessels may transit through the South Coast Recreational YRCA and Westport Offshore YRCA with or without halibut on board. The South Coast Recreational YRCA and Westport Offshore YRCA are areas off the southern Washington coast established to protect yelloweye rockfish. The South Coast Recreational YRCA is defined at 50 CFR 660.70(d). The Westport Offshore YRCA is defined at 50 CFR 660.70(e).

(d) The quota for landings into ports in the area between Leadbetter Point, WA (46°38.17′ N. lat.), and Cape Falcon, OR (45°46.00′ N. lat.) (Columbia River subarea), is 10,254 lbs (4.65 mt).

(i) This subarea is divided into an all-depth fishery and a nearshore fishery. The nearshore fishery is allocated 500 pounds of the subarea allocation. The nearshore fishery extends from Leadbetter Point (46°38.17′ N. lat., 124°15.88′ W. long.) to the Columbia River (46°16.00′ N. lat., 124°15.88′ W. long.) by connecting the following coordinates in Washington 46°38.17′ N. lat., 124°15.88′ W. long. 46°16.00′ N. lat., 124°15.88′ W. long and connecting to the boundary line approximating the 40 fm (73 m) depth contour in Oregon. The nearshore fishery opens May 4, and continues 3 days per week (Monday-Wednesday) until the nearshore allocation is taken, or September 30, whichever is earlier. The all depth fishing season commences on May 1, and continues 4 days a week (Thursday-Sunday) until 9,754 lbs (4.4 mt) are estimated to have been taken and the season is closed by the Commission, or September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

(ii) The daily bag limit is one halibut of any size per day per person.

(iii) Pacific Coast groundfish may not be taken and retained, possessed or landed when halibut are on board the vessel, except sablefish, Pacific cod, and flatfish species when allowed by Pacific Coast groundfish regulations, during days open to the all depth fishery only.

(iv) Taking, retaining, possessing, or landing halibut on groundfish trips is only allowed in the nearshore area on days not open to all-depth Pacific halibut fisheries.

(e) The quota for landings into ports in the area off Oregon between Cape Falcon (45°46.00′ N. lat.) and Humbug Mountain (42°40.50′ N. lat.) (Oregon Central Coast subarea), is 175,633 lbs (79.6 mt).

(i) The fishing seasons are:

(A) The first season (the “inside 40-fm” fishery) commences July 1, and continues 7 days a week, in the area shoreward of a boundary line approximating the 40-fm (73-m) depth contour, or until the sub-quota for the central Oregon “inside 40-fm” fishery of 21,076 lbs (9.56 mt), or any in-season revised subquota, is estimated to have been taken and the season is closed by the Commission, whichever is earlier. The boundary line approximating the 40-fm (73-m) depth contour between 45°46.00′ N. lat. and 42°40.50′ N. lat. is defined at § 660.71(k).

(B) The second season (spring season), which is for the “all-depth” fishery, is open May 14-16, 28-30, June 11-13, and 25-27. Back-up dates will be July 9-11 and 23-25. The projected catch for this season is 110,649 lbs (50.2 mt). If sufficient unharvested quota remains for additional fishing days, the season will re-open. If NMFS decides inseason to allow fishing on any of these re-opening dates, notice of the re-opening will be announced on the NMFS hotline (206) 526-6667 or (800) 662-9825. No halibut fishing will be allowed on the re-opening dates unless the date is announced on the NMFS hotline.

(C) If sufficient unharvested quota remains, the third season (summer season), which is for the “all-depth” fishery, will be open August 7, 8, 21, 22, September 4, 5, 18, 19, October 2, 3, 16, 17, 30, 31, or until the combined spring season and summer season quotas in the area between Cape Falcon and Humbug Mountain, OR, are estimated to have been taken and the area is closed by the Commission, or October 31, whichever is earlier. NMFS will announce on the NMFS hotline in July whether the fishery will re-open for the summer season in August. No halibut fishing will be allowed in the summer season fishery unless the dates are announced on the NMFS hotline. Additional fishing days may be opened if sufficient quota remains after the last day of the first scheduled open period on August 7. If, after this date, an amount greater than or equal to 60,000 lb (27.2 mt) remains in the combined all-depth and inside 40-fm (73-m) quota, the fishery may re-open every Friday and Saturday, beginning (insert date of first back up dates) and ending October 31. If after September 7, an amount greater than or equal to 30,000 lb (13.6 mt) remains in the combined all-depth and inside 40-fm (73-m) quota, and the fishery is not already open every Friday and Saturday, the fishery may re-open every Friday and Saturday, beginning September 10 and 11, and ending October 31. After September 7, the bag limit may be increased to two fish of any size per person, per day. NMFS will announce on the NMFS hotline whether the summer all-depth fishery will be open on such additional fishing days, what days the fishery will be open and what the bag limit is.

(ii) The daily bag limit is one halibut of any size per day per person, unless otherwise specified. NMFS will announce on the NMFS hotline any bag limit changes.

(iii) During days open to all-depth halibut fishing, no Pacific Coast groundfish may be taken and retained, possessed or landed, when halibut are on board the vessel, except sablefish, Pacific cod, and flatfish species, when allowed by Pacific Coast groundfish regulations.

(iv) When the all-depth halibut fishery is closed and halibut fishing is permitted only shoreward of a boundary line approximating the 40-fm (73-m) depth contour, halibut possession and retention by vessels operating seaward of a boundary line approximating the 40-fm (73-m) depth contour is prohibited.

(v) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is an area off central Oregon, near Stonewall Bank, intended to protect yelloweye rockfish. The Stonewall Bank YRCA is defined at § 660.70(f).

(f) The quota for landings into ports in the area south of Humbug Mountain, OR (42°40.50′ N. lat.) to the Oregon/California Border (42°00.00′ N. lat.)(Southern Oregon subarea) is 7,318 lbs (3.3 mt).

(i) The fishing season commences on May 1, and continues 7 days per week until the subquota is taken, or October 31, whichever is earlier.

(ii) The daily bag limit is one halibut per person with no size limit.

(g) The quota for landings into ports south of the Oregon/California Border (42°00.00′ N. lat.) and along the California coast is 25,220 lb (11.4 mt).

(i) The fishing season will be open May 1-15, June 1-15, July 1-15, August 1-15, and September 1-October 31, or until the subarea quota is estimated to have been taken and the season is closed by the Commission, or October 31, whichever is earlier. NMFS will announce any closure by the Commission on the NMFS hotline (206) 526-6667 or (800) 662-9825.

(ii) The daily bag limit is one halibut of any size per day per person.

Classification

Section 5 of the Northern Pacific Halibut Act of 1982 (Halibut Act, 16 U.S.C. 773c) allows the Regional Council having authority for a particular geographical area to develop regulations governing the allocation and catch of halibut in U.S. Convention waters as long as those regulations do not conflict with IPHC regulations. This action is consistent with the Pacific Council's authority to allocate halibut catches among fishery participants in the waters in and off the U.S. West Coast.

This action has been determined to be not significant for purposes of Executive Order 12866.

NMFS prepared an Initial Regulatory Flexibility Analysis (IRFA) in association with the proposed rule for the 2014 Area 2A Catch Sharing Plan. The final regulatory flexibility analysis (FRFA) incorporates the IRFA, a summary of the significant issues raised by the public comments in response to the IRFA, if any, and NMFS' responses to those comments, and a summary of the analyses completed to support the action. NMFS received no comments on the IRFA. A copy of the FRFA is available from the NMFS West Coast Region (see ADDRESSES) and a summary of the FRFA follows.

This rule implements changes to the Halibut Catch Sharing Plan (CSP) that addresses the commercial and recreational fisheries within Area 2A (waters off the U.S. West Coast). The International Pacific Halibut Commission (IPHC) sets the overall Total Allowable Catch (TAC) and the CSP governs the allocation of that TAC between tribal and non-tribal fisheries, and among non-tribal fisheries. The Council, with input from industry, the states, and the tribes, may recommend changes to the CSP. (Note that the IPHC also sets the commercial fishery opening date(s), duration, and vessel trip limits to ensure that the quota for the non-tribal fisheries is not exceeded.) For non-tribal fisheries, the CSP governs allocations of the TAC between various components of the commercial fisheries and recreational fisheries, and these allocations may vary depending on the level of the TAC. Seasons, gear restrictions, and other management measures implemented through domestic regulations are then used to meet the allocations and priorities of the CSP. There were no significant issues raised by the public comments in response to IRFA.

These regulations directly affect fin-fish harvesting and charterboat businesses. The Small Business Administration (SBA) has established size criteria for all major industry sectors in the US, including fish harvesting and fish processing businesses. A business involved in fish harvesting is a small business if it is independently owned and operated and not dominant in its field of operation (including its affiliates) and if it has combined annual receipts, not in excess of $20.5 million for all its affiliated operations worldwide (See 79 FR 33647, effective July 14, 2014). For marinas and charter/party boats, a small business is now defined as one with annual receipts, not in excess of $7.5 million. A seafood processor is a small business if it is independently owned and operated, not dominant in its field of operation, and employs 500 or fewer persons on a full time, part time, temporary, or other basis, at all its affiliated operations worldwide. A wholesale business servicing the fishing industry is a small business if it employs 100 or fewer persons on a full time, part time, temporary, or other basis, at all its affiliated operations worldwide. A small organization is any nonprofit enterprise that is independently owned and operated and is not dominant in its field. Small governmental jurisdictions such as governments of cities, counties, towns, townships, villages, school districts, or special districts are considered small jurisdictions if their populations are less than 50,000.

To determine the number of small entities potentially affected by this rule, NMFS reviewed the number of IPHC issued licenses and other information. In 2014, 591 vessels were issued IPHC licenses to retain halibut. IPHC issued licenses for: The directed commercial fishery and the incidental fishery in the sablefish primary fishery in Area 2A (166 licenses in 2014); incidental halibut caught in the salmon troll fishery (425 licenses in 2014); and the charterboat fleet (127 licenses in 2013, the most recent year available). No vessel may participate in more than one of these three fisheries per year. These license estimates overstate the number of vessels that participate in the fishery. IPHC estimates that 60 vessels participated in the directed commercial fishery, 100 vessels in the incidental commercial (salmon) fishery, and 13 vessels in the incidental commercial (sablefish) fishery. Recent information on charterboat activity is not available, but prior analysis indicated that 60 percent of the IPHC charterboat license holders may be affected by these regulations. There are no projected reporting or record keeping requirements with this rule. There are no large entities involved in the halibut fisheries; therefore, none of these changes will have a disproportionate negative effect on small entities versus large entities.

The major effect of halibut management on small entities is from the internationally set TAC decisions made by the IPHC. Based on the recommendations of the states, the Council recommended and NMFS is implementing in this final rule minor changes to the Plan to provide increased recreational and commercial opportunities under the allocations that result from the TAC.

The IPHC increased the Area 2A TAC by 1% from 960,000 lbs (2014) to 970,000 lbs (2015). Within this 1% increase, different subgroups are being affected differently because of the CSP allocation formula.

Changes to the Plan

The 2A Halibut Catch Sharing Plan, as outlined above, allocates the TAC at various levels. The commercial fishery is further divided into a directed commercial fishery that is allocated 85 percent of the commercial allocation of the Pacific halibut TAC, and incidental catch in the salmon troll fishery that is allocated 15 percent of the commercial allocation. The directed commercial fishery in Area 2A is confined to southern Washington (south of 46°53.30′ N. lat.), Oregon, and California. North of 46°53.30′ N. lat. (Pt. Chehalis), the Plan allows for incidental halibut retention in the sablefish primary fishery when the overall Area 2A TAC is above 900,000 lb (408.2 mt). The Plan also divides the sport fisheries into seven geographic subareas, each with separate allocations, seasons, and bag limits. The non-tribal allocation is divided into four shares. At the first level, there are specific percentage allocations for tribal and non-tribal fisheries. The non-tribal portion is then allocated to commercial components and to recreational components. The commercial component is then apportioned into directed, incidental troll, and incidental sablefish fisheries. The recreational portions for Oregon and Washington are furthered apportioned into area subquotas and these subquotas are further split into seasonal or depth fisheries (nearshore vs all depths). There may be gear restrictions and other management measures established as necessary to minimize the potential for the allocations to be exceeded.

At the September meeting, the Council adopted a range of Plan alternatives for public review. For 2015, the Council adopted two types of Plan changes that are discussed separately below. The first were the routine recreational fishery adjustments proposed by the states each year to accommodate the needs of their fisheries. The second were allocation changes to both the non-treaty commercial and recreational fisheries in order to increase the California allocation. The Council made final Plan change recommendations from this range at its November meeting.

For the non-allocation Plan changes the Council considered changes to the Columbia River, Oregon Central Coast, Southern Oregon, and California subareas. For the Columbia River subarea the Council considered: (1) Status quo seasonal management in a spring and summer fishery and one alternative which removes the seasonal split in the Columbia River subarea to allow for a single continuous season; (2) status quo allocation contributions from Washington and Oregon in equal amounts and one alternative that modifies the Oregon contribution to the Columbia River subarea to 2.3 percent of the Oregon sport allocation; and (3) status quo nearshore fishery allocation of 1,500 pounds and one alternative that modifies the Columbia River nearshore area allocation to 500 pounds. The Council recommended and this final rule implements each of the alternatives for the Columbia River subarea because the status quo alternatives do not match the needs of the fishery. The status quo season structure with an early and late season was rejected because this structure would unnecessarily strand quota later in the year when effort decreases substantially. The status quo Oregon contribution was rejected because it does not match recent effort in this subarea in Oregon. The status quo nearshore allocation was rejected because the allocation did not match the effort in the nearshore area, leaving a large portion of the allocation unavailable for harvest in other areas.

For the Oregon Central Coast subarea, the Council considered three all-depth season structures and modifications to the allocation from the Oregon Central Coast spring fishery to the Southern Oregon subarea. For the season structure, the Council considered three alternatives: Status quo, which would separate spring and summer seasons; Alternative 1a, which would combine the spring and summer season and open the fishery on May 1; and Alternative 1b, which is the same as 1a, except begin on the first weekend in May that avoid negative tides. For the allocation change the Council considered: Status quo, which allocates a portion of the spring fishery to the Southern Oregon subarea, and one alternative, which allocates a portion of the overall Oregon Central Coast subarea allocation to the Southern Oregon subarea. The Council recommended and this final rule implements the status quo alternative for the season structure and the one alternative for the allocation to the Southern Oregon subarea. The season structure alternatives were rejected because they did not match the needs of this fishery. The allocation in this area is generally caught very quickly, therefore keeping separate seasons allows for two distinct seasons. The status quo alternative allocation to the Southern Oregon subarea was rejected because it does not allow the Southern Oregon subarea an individual allocation, which means any overages in this area could affect other subareas.

For the Southern Oregon subarea, the Council considered three alternative season dates: Status quo, opening May 1, seven days per week; Alternative 1, open June 1, seven days per week; and Alternative 2, open July 1 seven days per week. The Council recommended and this final rule implements the status quo alternative because the other alternatives do not match the recent effort in this area and does not match the input the ODFW received at their public meetings.

In the Columbia River and Central Oregon Coast subareas, the Council considered three alternatives to incidental groundfish retention allowances: status quo, only Pacific cod and sablefish are allowed; Alternative 1, revise the bottomfish restrictions such that all groundfish except rockfish and lingcod would be allowed when halibut are onboard; and Alternative 2, revise the bottomfish restrictions such that other flatfish, in addition to Pacific cod and sablefish, would be allowed when halibut are onboard. The Council recommended and this final rule implements Alternative 2 because it allows incidentally caught flatfish species to be landed with halibut without increasing the catch of overfished species. Status quo was rejected because it would not allow incidentally caught flatfish species to be landed. Alternative 1 was rejected because it would likely increase the take of overfished groundfish species to levels that would restrict other fisheries due to the small allocations of overfished species.

For the California subarea, the Council considered three alternatives: Status quo, fixed season open May 1-July 31 and September 1-October 31, no inseason adjustment; Alternative 1, one month season between May 1 and October 31, to be determined preseason, with inseason adjustment as needed; Alternative 2, 15 consecutive day season between May 1 and October 31, to be determined preseason, with inseason adjustment as needed. The Council recommended and this final rule implements a modified Alternative which allows for a seven day a week fishery, that will be determined preseason through joint consultation between NMFS and CDFW, and allows for inseason adjustment as necessary. The other three alternatives were rejected because they either did not allow for inseason adjustment or predetermined the season dates which would unnecessarily restrict the season.

No alternatives were considered for the NMFS recommended change to the Regional Office name because it is administrative in nature and simply updates the name of the region from “Northwest” to “West Coast.”

The changes to the Columbia River subarea allocations and incidentally landed species allowances are expected to increase recreational opportunities by shifting underutilized fishery allocation from the late to the early part of the season when effort is higher and by turning previously discarded incidental flatfish catch into landed catch. Changes to the Oregon Central Coast subarea allocation and incidentally landed species are expected to prolong seasons and increase the total number of fishing days and are expected to increase recreational opportunities by turning previously discarded incidental catch into landed catch. None of these changes are controversial and none are expected to result in substantial environmental or economic impacts. These actions are intended to enhance the conservation of Pacific halibut, to provide angler opportunity where available, and to protect overfished groundfish species from incidental catch in the halibut fisheries. Because the goal of the action is to maximize angler participation and thus to maximize the economic benefits of the fishery, NMFS did not analyze alternatives to the above changes to the Plan other than the proposed changes and the status quo for purposes of the FRFA. Status quo would be the 2014 Plan applied to the 2015 TAC. Effects of the status quo and the final changes are similar because the changes to the Plan for 2015 are not substantially different from the 2014 Plan. The changes to the Plan are not expected to have a significant economic impact.

Changes to Allocations

In response to the growing California sport fishery, for 2014, a specific recreational subquota was created—1% of the non-tribal quota or 6,240 lbs. In prior years, the California fishery was a portion of the Southern Oregon/Northern California subquota. Preliminary catch data for 2015 show that the California fishery has taken 31,226 lbs, five times the California subquota. Because the 2014 subquota was insuffiencent to meet the growth in the California fishery, the Council reviewed six alternatives that allocate halibut to the various sectors differently between the sectors depending on the size of the TAC. Status Quo: The non-treaty allocation is apportioned according to the 2014 CSP: Washington sport (36.60%), Oregon sport (30.70%), California sport (1.00%), and commercial (31.70%). Alternative 1: Maintain allocations as described in the CSP (Status Quo), except increase the California sport allocation by two percent, for a total California sport allocation of three percent, by reducing the non-treaty commercial fishery share. Alternative 2, Option A: Same allocations as described in Alternative 1 when the 2A TAC is one million pounds or less. When the 2A TAC is above one million pounds, the California sport allocation would increase by an additional one percent, for a total California sport allocation of four percent, by reducing the non-treaty commercial fishery share. Alternative 2, Option B: Same allocations as described in Alternative 1 when the 2A TAC is one million pounds or less. When the 2A TAC is greater than one million pounds, the first one million pounds of the 2A TAC shall be distributed according to the Alternative 1 allocations. For the portion of the 2A TAC that exceeds one million pounds, the California sport allocation would increase to 30-50 percent of the non-treaty share, and allocation percentages for the non-treaty commercial and recreational (Washington and Oregon) would be reduced to remain proportional to the status quo non-treaty shares. Alternative 3: Increase the California sport allocation by two percent, for a total California sport allocation of three percent, when the 2A TAC is less than one million pounds by reducing the three major non-treaty group allocations (i.e., Washington sport, Oregon sport, and commercial). When the 2A TAC is greater than one million pounds, the first one million pounds of the 2A TAC shall be distributed according to the Alternative 3 allocations. For the portion of the 2A TAC that exceeds one million pounds, the California sport allocation would increase to four percent of the non-treaty share by reducing the three major non-treaty group allocations. Alternative 4: Increase the California sport share by three percent, for a total allocation of four percent, when the 2A TAC is less than one million pounds by reducing the three major non-treaty group allocations. When the 2A TAC is greater than one million pounds, the first one million pounds of the 2A TAC shall be distributed according to the Alternative 4 allocations. For the portion of the 2A TAC that exceeds one million pounds, the California sport allocation would increase to five percent of the non-treaty share by reducing the three major non-treaty group allocations. Alternative 5: Increase the California sport share by four percent, for a total allocation of five percent, when the 2A TAC is less than one million pounds by reducing the three major non-treaty group allocations. When the 2A TAC is greater than one million pounds, the first one million pounds of the 2A TAC shall be distributed according to the Alternative 5 allocations. For the portion of the 2A TAC that exceeds one million pounds, the California sport allocation would increase to six percent of the non-treaty share by reducing the three major non- treaty group allocations. In addition to modifying the commercial and recreational fisheries allocations, suboptions within the allocation alternatives were evaluated for when the TAC is expected to be greater than one million pounds to cap the California allocation. These caps were designed to cap the California allocation to a level that the fishery could reasonably be expected to harvest in order to not strand pounds, therefore, making them unavailable to other fisheries. However, a one million pound TAC is a level the fishery has not experienced in recent years nor is it anticipated for the near term future.

For 2015, the Council has recommended and this final rule implements Alternative 4 (the preferred alternative). For 2015, the Council recommended to increase the California recreational fishery allocation to 4% of the non-tribal allocation by reducing the Washington and Oregon sport and commercial allocations each by 1 percent. This modification is intended to provide an allocation to California that better matches recent effort. The CDFW has also committed to increased inseason monitoring in collaboration with NMFS. Pacific halibut sport fisheries in California have exceeded the allocation in recent years and therefore the goal of increased inseason monitoring and action, as necessary, is to keep the subarea within its allocation. Further, instead of a fixed season, CDFW will recommend to NMFS, similar to subareas in Washington and Oregon, a season length based on expected catch to attain the subarea quota. The status quo allocation was rejected because if maintained, the California fishery is likely to continue to exceed its quota and suffer an early shutdown. Under the status quo alternative, the overall halibut TAC will run the risk of being exceeded, and therefore it was not selected. Alternatives 1, 2, and 3 provide increases to the recreational fishery based on decreasing the commercial quota by 2 percent. Alternative 5 increases the California subquota by 4 percent by reducing the Oregon and Washington subquota and the non-tribal commercial quota. While this favors the California fishery, it is at the expense of too large of a reduction in the other fisheries, and therefore it was not selected.

Under Alternative 4, the preferred alternative, the increase of 3% to the California subquota comes from reducing the WA sport quota by 1%, the Oregon sport quota by 1%, and the non-tribal commercial quota by 1%. The overall effect is a shift of 1% reduction of the non-tribal commercial directed quota to the total sport quota allocation. From an economic perspective, it is unclear whether this shift is negative or positive given available analyses. However the overall economic effects of this shift is small as the potential loss of about $300,000 in ex-vessel revenues must be weighed by the gain of increased charterboat recreational activities.

Pursuant to Executive Order 13175, the Secretary recognizes the sovereign status and co-manager role of Indian tribes over shared Federal and tribal fishery resources. Section 302(b)(5) of the Magnuson-Stevens Fishery Conservation and Management Act establishes a seat on the Council for a representative of an Indian tribe with federally recognized fishing rights from California, Oregon, Washington, or Idaho. The U.S. Government formally recognizes that 13 Washington tribes have treaty rights to fish for Pacific halibut. The Plan allocates 35 percent of the Area 2A TAC to U.S. treaty Indian tribes in the State of Washington. Each of the treaty tribes has the discretion to administer their fisheries and to establish their own policies to achieve program objectives. Accordingly, tribal allocations and regulations, including the changes to the Plan, have been developed in with the affected tribe(s) and, insofar as possible, with tribal consensus.

In 2014, an Environmental Assessment (EA) was prepared analyzing the continuing implementation of the Catch Sharing Plan for 2014-2016. The Plan changes for 2015 are not expected to have any effects on the environment beyond those discussed in the EA and in the finding of no significant impact (FONSI).

NMFS conducted a formal section 7 consultation under the Endangered Species Act for the Area 2A Catch Sharing Plan for 2014-2016 addressing the effects of implementing the Plan on ESA-listed yelloweye rockfish, canary rockfish, and bocaccio in Puget Sound, the Southern Distinct Population Segment (DPS) of green sturgeon, salmon, marine mammals, and sea turtles. In the biological opinion the Regional Administrator determined that the implementation of the Catch Sharing Plan for 2014-2016 is not likely to jeopardize the continued existence of Puget Sound yelloweye rockfish, Puget Sound canary rockfish, Puget Sound bocaccio, Puget Sound Chinook, Lower Columbia River Chinook, and green sturgeon. It is not expected to result in the destruction or adverse modification of critical habitat for green sturgeon or result in the destruction or adverse modification of proposed critical habitat for Puget Sound yelloweye rockfish, canary rockfish, bocaccio. In addition, the opinion concluded that the implementation of the Plan is not likely to adversely affect marine mammals, the remaining listed salmon species and sea turtles, and is not likely to adversely affect critical habitat for Southern resident killer whales, stellar sea lions, leatherback sea turtles, any listed salmonids, and humpback whales. Further, the Regional Administrator determined that implementation of the Catch Sharing Plan will have no effect on southern eulachon, this determination was made in a letter dated March 12, 2014. The 2015 Plan and regulations do not change the conclusions from the biological opinion.

NMFS has initiated consultation with the U.S. Fish and Wildlife Service on the effects of the halibut fishery on seabirds, bull trout, and sea otters. This consultation is not completed at this time. NMFS has prepared a 7(a)(2)/7(d) determination memo under the ESA concluding that any effects of the 2015 fishery on listed seabirds are expected to be quite low, and are not likely to jeopardize the continued existence of any listed species. Further, in no way will the 2015 fishery make an irreversible or irretrievable commitment of resources by the agency.

NMFS finds good cause to waive the 30-day delay in effectiveness and make this rule effective upon publication in the Federal Register, pursuant to 5 U.S.C. 553(d)(3), so that this final rule may become effective on April 1, 2015, when incidental halibut retention in the sablefish primary fishery begins. While the 2015 TAC is higher than the 2014 TAC, due to the changes made to the Plan, the allocations for the salmon troll and sablefish primary fisheries are actually lower in 2015 than they were in 2014. Therefore, allowing the 2014 measures to remain in place could result in significant management changes later in the year to prevent exceeding the lower 2015 subarea allocations. Finally, this final rule approves the Council's 2015 Plan that responds to the needs of the fisheries in each state and approves the portions of the Plan allocating incidentally caught halibut in the salmon troll and sablefish primary fisheries, which start April 1. Therefore, allowing the 2014 subarea allocations and Plan to remain in place would not respond to the needs of the fishery and would be in conflict with the Council's final recommendation for 2015. For all of these reasons, a delay in effectiveness could ultimately cause economic harm to the fishing industry and associated fishing communities by reducing fishing opportunity later in the year to keep catch in the subareas within the lower 2015 allocations or result in harvest levels inconsistent with the best available scientific information. As a result of the potential harm to fishing communities that could be caused by delaying the effectiveness of this final rule, NMFS finds good cause to waive the 30-day delay in effectiveness and make this rule effective upon publication in the Federal Register.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: March 26, 2015.
Samuel D. Rauch III,
Deputy Assistant Administrator for Regulatory Programs, National Marine Fisheries Service.

For the reasons set out in the preamble, 50 CFR part 300 is amended as follows:

PART 300—INTERNATIONAL FISHERIES REGULATIONS

Subpart E—Pacific Halibut Fisheries

1. The authority citation for part 300, subpart E continues to read as follows:

Authority: 16 U.S.C. 773-773k.

2. In § 300.63, revise paragraphs (a), (c)(1) introductory text, (c)(3)(ii), and (c)(5), to read as follows:

* * * * *

§ 300.63 Catch sharing plan and domestic management measures in area 2A.

(a) A catch sharing plan (CSP) may be developed by the Pacific Fishery Management Council and approved by NMFS for portions of the fishery. Any approved CSP may be obtained from the Administrator, West Coast Region, NMFS.

* * * * *

(c) * * *

(1) The Regional Administrator, NMFS West Coast Region, after consultation with the Chairman of the Pacific Fishery Management Council, the Commission Executive Director, and the Fisheries Director(s) of the affected state(s), or their designees, is authorized to modify regulations during the season after making the following determinations:

* * * * *

(3) * * *

(ii) Actual notice of inseason management actions will be provided by a telephone hotline administered by the West Coast Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

* * * * *

(5) Availability of data. The Regional Administrator will compile, in aggregate form, all data and other information relevant to the action being taken and will make them available for public review during normal office hours at the West Coast Regional Office, NMFS, Sustainable Fisheries Division, 7600 Sand Point Way NE., Seattle, Washington.

* * * * *

[FR Doc. 2015-07329 Filed 3-31-15; 8:45 am]

BILLING CODE 3510-22-P